DEPARTMENT OF HEALTH AND HUMAN SERVICES

[Document Identifier: 0937-0191-60D]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment. The ICR is for extending the use of the approved information collection assigned OMB control number 0937-0191, which expires on April 30, 2021. Prior to submitting the ICR to OMB, OS seeks comments from the public regarding the burden estimate, below, or any other aspect of the ICR.

DATES: Comments on the ICR must be received on or before April 12, 2021.

ADDRESSES: Submit your comments to Sherrette.Funn@hhs.gov or by calling (202) 795-7714.

FOR FURTHER INFORMATION CONTACT: When submitting comments or requesting information, please include the document identifier 0937-0191-60D, and project title for reference, to Sherrette Funn, the Reports Clearance Officer, Sherrette.funn@hhs.gov, or call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Application packets for Real Property for Public Health Purposes.

Type of Collection: Extension.

OMB No.: 0937-0191.

Abstract: The Office of Assistant Secretary for Administration, Program Support Center, Federal Real Property Assistance Program is requesting OMB approval on a previously approved information collection, 0937-0191. 40 U.S.C. 550 (the “Act”), as amended, provides authority to the Secretary of Health and Human Services to convey or lease surplus real property to States and their political subdivisions and instrumentalities, to tax-supported institutions, and to nonprofit institutions which (except for institutions which lease property to assist the homeless) have been held exempt from taxation under Section 501(c)(3) of the 1954 Internal Revenue Code, and 501(c)(19) for veterans organizations, for public health and homeless assistance purposes. Transfers are made to transferees at little or no cost.

Type of respondent: Responses are dependent on when Federal surplus real property is made available and is desired by a respondent/applicant for acquisition. Likely respondents include State, local, or tribal units of government or instrumentalities thereof, and not-for-profit organizations.

Annualized Burden Hour Table
Forms (if necessary) | Respondents (if necessary) | Number of respondents | Number of responses per respondents | Average burden per response | Total burden hours
Applications for surplus Federal real property |  | 15 | 1 | 200 | 3,000
Total |  | 15 | 1 | 200 | 3,000

Dated: January 19, 2021.
Sherrette A. Funn,
Office of the Secretary, Paperwork Reduction Act Reports Clearance Officer.

[FR Doc. 2021-02734 Filed 2-9-21; 8:45 am]

BILLING CODE 4150-04-P